DEPARTMENT OF DEFENSE

Defense Logistics Agency

Privacy Act of 1974; Systems of Records

AGENCY: Defense Logistics Agency.

ACTION: Notice to alter a system of records.

SUMMARY: The Defense Logistics Agency proposes to alter a system of records notice in its existing inventory of records systems subject to the Privacy Act of 1974, (5 U.S.C. 552a), as amended.

DATES: This proposed action will be effective without further notice on December 23, 2005 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency systems of records notices subject to the Privacy Act of 1974, (5 U.S.C. 552a), as amended, have been published in the Federal Register and are available from the address above.

The proposed system reports, as required by 5 U.S.C. 552a(r), of the Privacy Act of 1974, as amended, were submitted on October 5, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: November 17, 2005.
L.M. Bynum,
OSD Federal Register Liaison Officer, Department of Defense.

S500.50

System name:

Access and Badging Records (November 16, 2004, 69 FR 67112).

Changes:

* * * * *

System name:

Delete entry and replace with “Facility Access Records.”

System location:

In the first sentence, delete “Office of Command Security” and replace with: “Public Safety.” Delete the third sentence in its entirety.

Categories of individuals covered by the system:

Delete “installations, facilities, or computer systems” and replace with: “installations or facilities.” Add a new second sentence to read: “The system also contains data on children of civilian employees, military personnel, and contractors where the parents have requested that a child identification badge be issued.”

Categories of records in the system:

Delete entry and replace with:

“The system contains documents relating to requests for and issuance of facility entry badges and passes and motor vehicle registration. The records contain individual's name; Social Security Number; physical and electronic duty addresses; physical and electronic home addresses; duty and home telephone numbers; emergency-essential status; date and place of birth; citizenship; badge number, type of badge, and issue and expiration dates; facility identification and user codes and dates and times of building entry; current photograph; physical descriptors such as height, hair and eye color; blood type; fingerprint data; handicap data; security clearance data; personal vehicle description to include year, make, model, and vehicle identification number; state tag data; operator's permit data; inspection and insurance data; vehicle decal number, parking lot assignment; parking infractions; the fact of participation in mass transit programs; emergency contact data; and names of children registered at DLA child development centers.”

Authority for maintenance of the system:

Delete the references to 18 U.S.C. 1029 and 18 U.S.C. 1030.

Purpose(s):

Delete entry and replace with: “Information is maintained by DLA police and public safety personnel to control access into DLA-managed installations, buildings, facilities, and parking lots; to manage reserved, handicap and general parking; to verify security clearance status of individuals requiring entry into restricted access areas; to account for building occupants and to effect efficient evacuation during simulated and actual threat conditions; to relay threat situations and conditions to DoD law enforcement officials for investigative or evaluative purposes; and to notify emergency contact points of situations affecting a member of the workforce. Names of children registered at DLA child care centers are collected to notify the caregivers of emergencies affecting parents and to identify the children who may require special accommodations due to that emergency. In support of morale programs and when requested by parents, critical descriptive data and a current photograph of their child are captured for parental use should a child go missing.”

Routine Uses:

Add at the end of the entry: “except for information collected on children.”

* * * * *

Retrievability:

Delete “bar code number” and replace with “facility or user code.”

Safeguards:

Delete entry and replace with:

“Records are maintained in secure, limited access, or monitored work areas accessible only to authorized personnel. Central Processing Units are located in a physically controlled access area requiring either a badge or card swipe for entry. Workstations are password controlled with system-generated forced password change protocols. System log-on protocols and system software identify users and trace their actions. Employees are warned of the consequences of improperly accessing restricted databases and data misuse at each login, during staff meetings, and during separate information assurance and Privacy Act training sessions.”

Retention and Disposal:

Delete the third sentence regarding database access records.

System Manager(s):

Delete entry and replace with: “Staff Director, Public Safety, Defense Logistics Agency, 8725 John J. Kingman Road, Stop 6220, Fort Belvoir, VA 22060-6221, and the Commanders of the Defense Logistics Agency field activities. Official mailing addresses are published as an appendix to DLA's compilation of systems of records notices.”

Notification procedure:

Delete entry and replace with:

“Individuals seeking to determine whether this system of records contains information about themselves should address written inquiries to the Privacy Act Officer, Headquarters Defense Logistics Agency, ATTN: DP, 8725 John J. Kingman Road, Stop 2533, Fort Belvoir, VA 22060-6221, or the Privacy Act Officer of the field activity involved. Official mailing addresses are published as an appendix to DLA's compilation of systems of records notices.”

Record access procedures:

Delete entry and replace with:

“Individuals seeking to access records about themselves contained in this system of records should address written inquiries to the Privacy Act Officer, Headquarters Defense Logistics Agency, ATTN: DP, 8725 John J. Kingman Road, Stop 2533, Fort Belvoir, VA 22060-6221, or the Privacy Act Officer of the field activity involved. Official mailing addresses are published as an appendix to DLA's compilation of systems of records notices.”

Contesting record procedures:

Delete “DES-B” and replace with: “DP.” Delete “Stop 6220” and replace with “Stop 2533.”

Record source categories:

Delete entry and replace with:

“Data is supplied by the record subject and public safety personnel. Data for child identification badges is provided by the parent.”

* * * * *

S500.50

System name:

Facility Access Records.

System location:

Staff Director, Public Safety, Headquarters Defense Logistics Agency, ATTN: DES-S, 8725 John J. Kingman Road, Stop 6220, Fort Belvoir, VA 22060-6221, and the Defense Logistics Agency Field Activities. Official mailing addresses are published as an appendix to DLA's compilation of systems of records notices.

Categories of individuals covered by the system:

Defense Logistics Agency (DLA) civilian and military personnel, contractor employees, and individuals requiring access to DLA-controlled installations or facilities. The system also contains data on children of civilian employees, military personnel, and contractors where the parents have requested that a child identification badge be issued.

Categories of records in the system:

The system contains documents relating to requests for and issuance of facility entry badges and passes and motor vehicle registration. The records contain individual's name; Social Security Number; physical and electronic duty addresses; physical and electronic home addresses; duty and home telephone numbers; emergency-essential status; date and place of birth; citizenship; badge number, type of badge, and issue and expiration dates; facility identification and user codes and dates and times of building entry; current photograph; physical descriptors such as height, hair and eye color; blood type; fingerprint data; handicap data; security clearance data; personal vehicle description to include year, make, model, and vehicle identification number; state tag data; operator's permit data; inspection and insurance data; vehicle decal number, parking lot assignment; parking infractions; the fact of participation in mass transit programs; emergency contact data; and names of children registered at DLA child development centers.

Authority for maintenance of the system:

5 U.S.C., Chapter 3, Powers; 5 U.S.C. 6122, Flexible schedules, agencies authorized to use; 5 U.S.C. 6125, Flexible schedules, time recording devices; 10 U.S.C. 133, Under Secretary of Defense for Acquisition and Technology; 23 U.S.C. 401 et seq., National highway Safety Act of 1966; E.O. 9397 (SSN); and E.O. 10450 (Security Requirements for Government Employees).

Purpose(s):

Information is maintained by DLA police and public safety personnel to control access into DLA-managed installations, buildings, facilities, and parking lots; to manage reserved, handicap and general parking; to verify security clearance status of individuals requiring entry into restricted access areas; to account for building occupants and to effect efficient evacuation during simulated and actual threat conditions; to relay threat situations and conditions to DoD law enforcement officials for investigative or evaluate purposes; and to notify emergency contact points of situations affecting a member of the workforce. Names of children registered at DLA child care centers are collected to notify the caregivers of emergencies affecting parents and to identify the children who may require special accommodations due that emergency. In support of morale programs and when requested by parents, critical descriptive data and a current photograph of their child are captured for parental use should a child go missing.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of DLA's compilation of systems of records notices apply to this system except for information collected on children.

Policies and practices for storing, retrieving, accessing, retaining, and disposing of records:

Storage:

Records are stored in paper and electronic form.

Retrievability:

Retrieved by name, Social Security Number, facility or user code, or decal number.

Safeguards:

Records are maintained in secure, limited access, or monitored work areas accessible only to authorized personnel. Central Processing Units are located in a physically controlled access area requiring either a badge or card swipe for entry. Workstations are password controlled with system-generated forced password change protocols. System log-on protocols and system software identify users and trace their actions. Employees are warned of the consequences of improperly accessing restricted databases and data misuse at each login, during staff meetings, and during separate information assurance and Privacy Act training sessions.

Retention and disposal:

Vehicle registration records are destroyed when superseded or upon normal expiration or 3 years after revocation;

Individual badging and pass records are destroyed upon cancellation or expiration or 5 years after final action to bar from facility.

System manager(s) and address:

Staff Director, Public Safety, Defense Logistics Agency, 8725 John J. Kingman Road, Stop 6220, Fort Belvoir, VA 22060-6221, and the Commanders of the Defense Logistics Agency field activities. Official mailing addresses are published as an appendix to DLA's compilation of systems of records notices.

Notification procedure:

Individuals seeking to determine whether this system of records contains information about themselves should address written inquiries to the Privacy Act Officer, Headquarters Defense Logistics Agency, ATTN: DP, 8725 John J. Kingman Road, Stop 2533, Fort Belvoir, VA 22060-6221, or the Privacy Act Officer of the field activity involved. Official mailing addresses are published as an appendix to DLA's compilation of systems of records notices.

Record access procedures:

Individuals seeking to access records about themselves contained in this system of records should address written inquiries to the Privacy Act Officer, Headquarters Defense Logistics Agency, ATTN: DP, 8725 John J. Kingman Road, Stop 2533, Fort Belvoir, VA 22060-6221, or the Privacy Act Officer of the field activity involved. Official mailing addresses are published as an appendix to DLA's compilation of systems of records notices.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

Data is supplied by the record subject and public safety personnel. Data for child identification badges is provided by the parent.

Exemptions claimed for the system:

None.

[FR Doc. 05-23128 Filed 11-22-05; 8:45 am]

BILLING CODE 5001-06-M